FEDERAL RESERVE SYSTEM

Sunshine Act Meetings

AGENCY HOLDING THE MEETING: Board of Governors of the Federal Reserve System.

TIME AND DATE: 2 p.m. on Wednesday, June 25, 2025.

PLACE: Martin Federal Reserve Board Building, C Street entrance between 20th and 21st Streets NW, Washington, DC 20551.

STATUS: Open.

On the day of the meeting, you will be able to view the meeting via webcast from a link available on the Board's website. You do not need to register to view the webcast of the meeting. A link to the meeting documentation will also be available approximately 20 minutes before the start of the meeting. Both links may be accessed from the Board's website at www.federalreserve.gov.

If you plan to attend the open meeting in person, we ask that you notify us in advance and provide your name, date of birth, and social security number (SSN) or passport number. You may provide this information by calling 202-452-2474 or you may register online www.federalreserve.gov. You may pre-register until close of business on June 24, 2025. You also will be asked to provide identifying information, including a photo REAL ID, before being admitted to the Board meeting. The Public Affairs Office must approve the use of cameras; please email media@frb.gov for further information. If you need an accommodation for a disability, please contact Yvette McKnight on 202-452-2308. For the hearing impaired only, please use the Telecommunication Device for the Deaf (TDD) on 202-263-4869.

Privacy Act Notice: The information you provide will be used to assist us in prescreening you to ensure the security of the Board's premises and personnel. In order to do this, we may disclose your information consistent with the routine uses listed in the Privacy Act Notice for BGFRS-32, including to appropriate federal, state, local, or foreign agencies where disclosure is reasonably necessary to determine whether you pose a security risk or where the security or confidentiality of your information has been compromised. We are authorized to collect your information by 12 U.S.C. 243 and 248, and Executive Order 9397. In accordance with Executive Order 9397, we collect your SSN so that we can keep accurate records, because other people may have the same name and birth date. In addition, we use your SSN when we make requests for information about you from law enforcement and other regulatory agency databases. Furnishing the information requested is voluntary; however, your failure to provide any of the information requested may result in disapproval of your request for access to the Board's premises. You may be subject to a fine or imprisonment under 18 U.S.C. 1001 for any false statements you make in your request to enter the Board's premises.

MATTERS TO BE CONSIDERED:

Discussion Agenda

1. Proposed revisions to the Board's supplementary leverage ratio standards.

Notes: 1. For those attending in person, the staff memo will be available to attendees on the day of the meeting in paper. Meeting documentation will be available on the Board's website about 20 minutes before the start of the meeting.

2. This meeting will be recorded for the benefit of those unable to attend. The webcast recording and a transcript of the meeting will be available after the meeting on the Board's website http://www.federalreserve.gov/aboutthefed/boardmeetings/.

FOR QUESTIONS PLEASE CONTACT: Public Affairs Office at media@frb.gov.

SUPPLEMENTARY INFORMATION: You may access the Board's website at www.federalreserve.gov for an electronic announcement. (The website also includes procedural and other information about the open meeting.)

Dated: June 17, 2025.
Benjamin W. McDonough,
Deputy Secretary of the Board.

[FR Doc. 2025-11353 Filed 6-17-25; 11:15 am]

BILLING CODE 6210-01-P